DEPARTMENT OF ENERGY

Federal Energy Regulatory Commission

[Project No. 9649-019]

Lovejoy Tool Company, Inc.; Notice of Intent To File License Application, Filing of Pre-Application Document, and Approving Use of the Traditional Licensing Process

a. Type of Filing: Notice of Intent to File License Application and Request to Use the Traditional Licensing Process.

b. Project No.: 9649-019.

c. Date Filed: June 30, 2021.

d. Submitted By: Lovejoy Tool Company, Inc. (Lovejoy Tool).

e. Name of Project: Lovejoy Dam Project (project).

f. Location: On the Black River in Windsor County, Vermont. No federal lands are occupied by the project works or located within the project boundary.

g. Filed Pursuant to: 18 CFR 5.3 and 5.5 of the Commission's regulations.

h. Potential Applicant Contact: Mr. Todd Priestley, Lovejoy Tool Company, Inc.; 133 Main Street, Springfield, VT 05156; (800) 843-8376; email at todd.priestley@lovejoytool.com.

i. FERC Contact: Amy Chang at (202) 502-8250; or email at amy.chang@ferc.gov.

j. Lovejoy Tool filed its request to use the Traditional Licensing Process on June 30, 2021 and provided public notice of its request on June 30, 2021 and July 7, 2021. In a letter dated August 27, 2021, the Director of the Division of Hydropower Licensing approved Lovejoy Tool's request to use the Traditional Licensing Process.

k. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Vermont State Historic Preservation Officer, as required by section 106 of the National Historic Preservation Act, and the implementing regulations of the Advisory Council on Historic Preservation at 36 CFR 800.2.

l. With this notice, we are designating Lovejoy Tool as the Commission's non-federal representative for carrying out informal consultation pursuant to section 7 of the Endangered Species Act; and consultation pursuant to section 106 of the National Historic Preservation Act.

m. On June 30, 2021, Lovejoy Tool filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. For assistance, contact FERC Online Support at FERCOnlineSupport@ferc.gov, (866) 208-3676 (toll free), or (202) 502-8659 (TTY).

o. The licensee states its unequivocal intent to submit an application for a subsequent license for Project No. 9649. Pursuant to 18 CFR 16.20, each application for a subsequent license and any competing license applications must be filed with the Commission at least 24 months prior to the expiration of the existing license. All applications for license for this project must be filed by June 30, 2024.

p. Register online at https://ferconline.ferc.gov/FERCOnline.aspx to be notified via email of new filings and issuances related to this or other pending projects. For assistance, contact FERC Online Support.

Dated: August 27, 2021.
Kimberly D. Bose,
Secretary.

[FR Doc. 2021-18963 Filed 9-1-21; 8:45 am]

BILLING CODE 6717-01-P